DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing their United States citizenship (within the meaning of section 877(a) or 877A) with respect to whom the Secretary received information during the quarter ending September 30, 2010.

Last name | First name | Middle name/initials
Aboutboul | Stephen | Samuel
Altenpohl-Steurer | Bettina | Annette
Amgwerd-Sheaff | Christina |
Amstutz | Betty | Gerson
Amstutz | Patrick |
Anderson | David | Patrick
Aschmann | Thomas | Hans
Atkinson | Lavinia |
Aucan | Jerome | P.
Auger | Judy | Ann
Auyang | William | C.
Azhar | Shariq |
Azrieli | Stephanie | Joyce
Bachman | Mary | Arnold
Bachman | Van | Cleaf
Banks | Samuel | Roy
Baronti | Emanuele | Fernando
Bastos | Petrus | Pinheiro
Beguin | Christophe | Frederic
Bendat | Paul | Nathan
Benitez | Alfredo | Abelardo
Berlin | Barbara |
Berlin | Kristi | Simone
Berlin | Kim | Mishell
Besner | Rejean |
Besson | William | Thomas Lim
Bider | Marc | Daniel
Bignell | Carl |
Black | Johanna | Marie
Blackwell | Cecelia | Caroline
Bodmer-Gilgen | Carolyn |
Boh | Jennie |
Borgerding | Edward | James
Bornstein | Michael | S.
Borsetti | Renata |
Bovet | Robert | Eduard
Brodlieb | Jesse | Samuel
Brofferio | Costanza | Luisa
Browning | Andrew | John
Bucher | Virginia | Williams
Bucher | Steffen | Maximilian
Burdge | Lawrence |
Burger | Simone | Claudia
Burger | Elizabeth | Joyce
Callaghan | John | Arthur
Campeau | Pamela | Gail
Cannon | Ralph | George
Carlson | Helma | Maria
Carstairs | Emma | Jane
Causton | Clare | R.
Causton | Richard |
Chan | Siu-Fai (Sam) |
Chan | Yuen-Wah |
Chan | Yat | Chiu
Chan | Adrian |
Chandler | Howard |
Chandler | Jennifer |
Chen | David | Guang Miao
Chen | Charles |
Cheng | Ricky | Man-Shan
Cheng | Doreen |
Cheung | William | Wai Man
Chiu | Eric | Hsiuchun
Choi | Elliott | Gar-Hung
Chow | Theresa | Lynn
Chu | Jim | Kay Ping
Chua | Qi Xian | Jason
Chua | Theodore | Yuan-Shiun
Chung | Hyeon | Joo
Clark | Lisa | Michele
Clarke | Elizabeth | Ann
Coldren | Patricia | Mary
Cook | Dennis | Eugene
Corbett | Meryle | Lynn
Corbin | Tamara | Diane
Costelo | Michael | Philip
Costelo | Katherine | Ann
Cuenod | Antoine | Bernard
Cummins | Annetta | Susanne
Dale | Averil |
D'alessio | Diamante | O.
De Fecchino | Ileana | Celia Aiello
De Goyet | Claude | De Ville
De Palacio | Patricia | Cavanaugh
De Talans | Corinne | Rouveure
Dean | Jason | Leiser
Decker | John | C.
Dennig | Ti | Hua
Denye | Simon | Francis
Denye | Maoliosa |
Dicker | Keith | Christopher
Dickson | Alexander | Gerard James
Dickson | Theodore | Michael Stuart
Dietrick | Linda | Jane
Dimant | Alan |
Dittmar | Marc | Michael
Drake | Pamela | Jean
Driscoll | John | Timothy
Duncan | James | Michael
Ehrenbaum-Marti | Caroline | Tosca
Elliott | Francis | Patrick
Enav | Orie |
Eschholz | Elizabeth |
Faermark | Nicole | Esther
Feiler | Diane | Michelle
Fibiger | Hans | C.
Figueres | Shanon | Muni
Fink | Robert |
Fisher | John | Clinton
Fisher | Marjorie | Edith
Flesch | Karin | Gerda
Forget | Guy | Gilles
Foster | Thomas | Ross
Fox | Kenneth | R.
Freyler | Sonia | Renate
Furrer | Nicole | Breanan
Garcia | Vincent | James
Gargash | Ali Abdul | Jabbar
Garrison | Charles |
Gartmann-Breymeier | Karen |
Gazi | Diana |
Gertner | Matthew | I.
Giegerich | Susan | Carol
Giles | Ryan | William
Gillespie | Caroline | Pierce
Given | Gail | Kathleen
Gorr | Marc-Andrew | George
Grace | John | S.
Graf | Robert | Henri
Grau | Joachim |
Gray | Laurence | Brian
Gray | Douglas | Lee
Green | Ronald | Milner
Guerrero | Tempest | Manzano
Haag | Toralf | Andrew
Haberstich | Anne |
Hahr | Thomas | Joseph
Halkias | Constantinos |
Halkias | Stavris |
Halter | Sylvia |
Hamber-Schlueter | Ellen | Mary
Hampton | Peter | Henry
Han | Choi | Sang
Han | Richard | Jin Soo
Hare | David | Edwin George
Harmon | Sangboon |
Hayden | Sandra | Juliet Ferera
Heider | Andy |
Henderson | Lisa | Marie
Hesseln | Wolfgang |
Hill | David | Carson
Hill | Richard | Walter
Hirai | Aiko |
Hirai | Kihei |
Hirano | Mutsuo |
Hirsh | Denton | Hugo
Ho | Keung |
Hodler | Alice | Carolyn
Hoffman | Roger | Scott
Hofmann | Albert | J.
Hofmann | Kristan | Michael
Hou | Lee-Fang |
Hoyt | John | Philip
Huegli | George | Erwin
Huie | Allen | Tat Yan
Hungerford | Michael | Lyall Maclaren
Hurgli | Christine | Magdalena
Hurip | Eddie |
Irvine | James | Fitton
Jacob | Allison | Denee
Jaeckel | Michael | Steven
Jarng | Ann | Barngwoo
Jenny | Jachen | Dury
Jenny | Peider | Curdin
Jenny | Reto | Daniel Andry
Jensen | Torjus |
Johnson | Christopher | Lind
Johnston | Doreen | Loina
Jones Iii | Randall | Logan
Kaithan | Peter | Hilmar
Kirchner | Manfred | Gustaf
Kirn | Dawna | Lea
Kirn | John | Howard
Kirpalani | Ravina |
Knoblauch | Bettina | Deneen
Koenitzer | Thomas | Edward
Konovalenko | Evgueni |
Korody | Istvan | Paku
Kuster | Stephen | Louis
Kwan | Ringo | Cheukkai
Kwan | Charlotte | C. L
Kwong | Win | Win
Kwong | Chun | Chuan
Labonville | Jean | Marc
Lai | Allan | C.
Lai | Daniel | Sai-Hong
Lall | Lyndon |
Lam | Salina | Sai Lin
Lam | Jada | Wing Yan
Lang | Walter | Otto
Lassen | Lianne | Marie
Lau | Isaac | Bok Man Kaleo
Leatherman | Charles | Brooke
Leaver Jr | Thomas | Mcgregor
Lecomte-Cuendet | Claire-Lise |
Lee | Francis | Jong Sang
Lee | Christina | Maisenne
Lee | Bobbie | Wai Lang
Lee | Phyllis | Pang-Chi
Lee | Grace | Meina
Lemos | Christina | Carras
Leung | Shu | Tim
Lewis | Elva | Gertrude
Lewis Jr | Eben | Willingham
Li | Kai |
Li | Evan | Ming-Hon
Li | Christina | Po Man
Lianos | Panayotis |
Lombard | Pamela | Lawrence
Long | Gaye | Lenore
Louit | Nicolas | Paul
Low | Elizabeth |
Lowrie | Marcia |
Lu | Chun | Ching
Luntz | Reagan | Mather
Lusser | Christoph | Ursus
Lusser | Prisca | Julia Studi
Luu | Dewitt |
Ma | Derek | Hing Kwok
Mackay | Donald | R.
Mackenzie | Donald | Gordon
Mair | Susan | Goodrich
Maita | Hikaru |
Maniere | Chantal | De Poilloue
Mar | Pamela | Chia-Ming
Marsh | Kenneth | John
Matter | Jeremy | Antoine
Mcclintock | Wayne | Delbert
Mcdougall | James | Mcgregor
Mclean | Leslie | Moseman
Mcnab | Alan |
Mcnab | Anne |
Mead | Shepherd |
Mendieta, Jr | Edwin | A.
Merkle | Barbara | Christine
Metcalf | Barbara | Ann
Mettler | Julian |
Meurzec | Maelle | Paulette
Miksha | Ronald | Michael
Miller | Judith | Natalie
Miller | Craig | Cameron
Ming | Bo | Jean
Morcerf | Renato |
Mori | Tetsuya |
Morin | Pascal | Charles
Morrison | David | Gibson
Mulroney | Ashley | Dianne
Munsch | Ann | Beeler
Murillo | Vanessa | Pogacnik
Murray | Betty | Caroline
Murray | Irwin | Mackay
Murray | Eddie | Dean
Muto | Toshinao |
Naccache | Hermine | Helene
Naccache | Paul | Henri
Nadal | Samantha | Faith
Naito | Kunihiko |
Nayer | Gerald | Rolla
Naylor | Gordon | Albert
Neergaard | Rita | Jan
Neilson | Garry | Stuart
Newman | Patricia | Ann
Ng | Victoria | Hwa-Yuan Yang
Ngan | Godwin | Wing Kay
Ngoi | Natalie | Yan Li
Norman | David | George
Noyes | Keith | Samuel
Obbard | Andrew | K.
Ollivier | Florian Antoine | Marie Bernard
Ong | Peng | Tsin
Ortega | James |
Ourada | Christine | M.
Ourada | Jan | F.
Pacheco | Kent | Richard
Padovano | Susan | Goldlust
Palisetti | Ramana |
Pan | Hai-Yen | Alice
Parschau | Bernhard | C.
Paton | Craig |
Penner | Thomas | Carson
Perez | Sharon |
Perry | Henry | Atterbury
Phounsavan | Saylom |
Phounsayan | Saylom |
Piccinin | Andrea |
Prenoveau | Guy | Joseph
Prenoveau | Lucile | Marie
Rice | Ann | C.
Rice | Patrick | Ralph
Richter | Liesl |
Ritter | Judith |
Robertson | Andrew | Brian
Robinson | Christopher | Douglas
Rodd | Celia | Jane
Rogers-Perz | Beryl | M.
Sabukosek | Thomas | Michael
Sakai | Sumie |
Sattler | Glenn | Francis
Saw | Boo | Guan
Schachenmann | Teano | Andre
Schachler | Jurgen |
Schaeffer | Jacobus | H.
Scherer | Ana | Catarina
Schiegg | Samuel | Frederic
Schmidt | Pamela | Lindsey
Schmutzler | Armin | Rolf Marc
Schroeder | Rosalina |
Schueller | Amos |
Schwartz | Angela | Carlisle
Scollay | Roland | Guy
Searle | Heather | Michele
Seo | Min | Sik
Shao | Nicholas |
Shih | Royce |
Shonozaki | Mari |
Shun | Mei | Wah
Signer | Deborah | Ursula
Sinyaev | Andrey |
Slovenski | Richard | Thaddeus
Steiner-Kaithan | Christine | Andrea
Stevens | Brita |
Stindt | Patricia | Eve
Straub-Baumann | Regula |
Stubbs | Christopher | David
Su | Tung | Ping
Su | Landon | Wei-Yang
Sugay | Teresita | Rosario
Suthimai | Catherine |
Sweeney | Ann | Marie
Takahashi | Takako |
Tang | George | Yuen-Shun
Tartini-Rostropovich | Alessandro | Paolo
Teh | Delores | Eng-Hua
Teng | Paul | Piang-Siong
Thadani | Shyamla | Vinod
Thaiss | Nahid |
Thaiss | Gustav | Edward
Thakkar | Rajiv | D.
Tsai | Jeffrey | T.
Tsang | Chi | Kin
Tseng | Kenneth | Hing Key
Tsunomori | Mieko |
Tsunomori | Motoki |
Tye | Mei | Peng
Uhl | Matthias | William
Uhle` | Anton | Frederic
Unger | Kelly | Bernadette
Vallin | Daniel | James
Van | Douglas |
Vandevelde | Mark | Robert
Vaughn | Kathryn | Blair
Vermandel | Kurt |
Vice Consul | Marc | J. Young
Vlad | Lucian |
Von Stiernhielm | Maximilian | Olof Winkler
Wagner | Susanne | Anneliese
Wang | Shi | Ming
Wang | John |
Ward | Laurie | T.
Ward | Marie | I.
Ward | Bradley | James
Wasserman | Gregory | George Rene
Wegener | Annette |
Weng | Xiangwei |
Wenger | Laurence | Paul
Whitehead | Phillip |
Woehlbier | Christian | Herbert
Woehlbier | Anne | Kristin
Wong | Jason | Chong
Wong | Kun | Wah
Wong | Jonathon | Chun Ho
Wong | Sean | Hung Sui
Woodruff | Margaret | Eva Simmons
Woppert | Allen | Jerome
Wu | Benjamin | Bin
Xiao | Sharon | Y.
Yang | Wei-Sun |
Yang | Alex | Keun Mo
Yen | Chi | Tan
Yenny | Jacques | G.
Yenny | Monique | Y.
Yokokawa | Jun |
Yu | Pearl |
Zang | Wenyi |
Zedan | Mohamed | F.
Zeinalzade | Cyrus |
Zwicky | Lynn |

Dated: October 26, 2010.
Angie Kaminski,
Manager Team 103, Examinations Operations—Philadelphia Compliance Services.

[FR Doc. 2010-28314 Filed 11-9-10; 8:45 am]

BILLING CODE 4830-01-P